DEPARTMENT OF DEFENSE

Department of the Army, Corps of Engineers

Intent To Prepare a Draft Environmental Impact Statement/Environmental Impact Report for the Proposed Cambria Water Supply Project, San Luis Obispo County, CA

AGENCY: Department of the Army, U.S. Army Corps of Engineers, DoD.

ACTION: Notice of Intent.

SUMMARY: The Los Angeles District of the U.S. Army Corps of Engineers (Corps) and Cambria Community Services District (CCSD), the non-Federal sponsor under a Project Cooperation Agreement dated March 27, 2006, intend to jointly prepare an Environmental Impact Statement/Environmental Impact Report (EIS/EIR) to study, plan, and implement a project to provide for a reliable water supply for the community of Cambria in San Luis Obispo County. The relatively remote location of Cambria has resulted in the area relying solely upon local groundwater for its current water supply. The groundwater supplies from the Santa Rosa and San Simeon groundwater basins no longer are adequate to meet existing demand under extreme drought conditions or to meet projected future demand in most years.

DATES: Submit comments on or before March 24, 2012.

ADDRESSES: Kathleen Anderson, U.S. Army Corps of Engineers, Los Angeles District, P.O. Box 532711, Los Angeles, CA 90053-2325.

FOR FURTHER INFORMATION CONTACT: Kathleen Anderson, (818) 776-9049 Ext. 2106; or Email at kathleen.s.anderson@usace.army.mil.

SUPPLEMENTARY INFORMATION: The Corps intends to prepare a joint EIS/EIR to assess the environmental effects associated with the proposed project. CCSD is the state lead agency for the EIR pursuant to the California Environmental Quality Act (CEQA).

1. Authorization. The proposed project would be conducted in accordance with Section 219 of the Water Resources Development Act (WRDA) of 1992 (Pub. L. 102-580), as amended, which states in part:

* * * (a) IN GENERAL—The Secretary is authorized to provide assistance to non-Federal interests for carrying out water-related environmental infrastructure and resource protection and development projects described in subsection (c), including waste water treatment and related facilities and water supply, storage, treatment, and distribution facilities. Such assistance may be in the form of technical and planning and design assistance. If the Secretary is to provide any design or engineering assistance to carry out a project under this section, the Secretary shall obtain by procurement from private sources all services necessary for the Secretary to provide such assistance, unless the Secretary finds that (1) the service would require the use of a new technology unavailable in the private sector, or (2) a solicitation or request for proposal has failed to attract 2 or more bids or proposals.

(f) ADDITIONAL ASSISTANCE—The Secretary may provide assistance under subsection (a) and assistance for construction for the following:

(48) CAMBRIA, CALIFORNIA—$10,300,000 for desalination infrastructure, Cambria, California.

2. Background: Cambria, an unincorporated community, is located in the coastal region of central California, in the northwestern portion of San Luis Obispo County. Cambria lies within the Santa Rosa Creek Valley. Located along Highway 1, Cambria is approximately 35 miles north of San Luis Obispo and approximately four miles south of San Simeon. The primary transportation corridor that bisects Cambria is Highway 1, which traverses the community in a north-south orientation. Currently, Cambria has a population of approximately 6,400 permanent residents with a substantial tourist and second home population.

The CCSD provides water supply, wastewater collection and treatment, fire protection, garbage collection, and a limited amount of street lighting and recreation. The CCSD currently serves a population of about 6,400 as well as a large number of visitors to the Central Coast and covers approximately four square miles. The relatively remote location of Cambria has resulted in the area relying solely upon local groundwater for its water supply.

3. Proposed Project. To study, plan, and implement a project to provide for a reliable water supply for the community of Cambria in San Luis Obispo County, CA.

4. Alternatives. Potential water supply alternatives were compiled from studies conducted by the CCSD over a period of more than ten years identifying and evaluating potential sources of additional potable water for CCSD. The alternatives initially being considered for the proposed project include seawater desalination, local and imported surface water, groundwater, hard rock drilling, and seasonal reservoir storage.

5. Scoping Process.

a. Potential impacts associated with the proposed project will be fully evaluated. Resource categories that will be analyzed include: Physical environment, geology, biological resources, air quality, water quality, recreational usage, aesthetics, cultural resources, transportation, noise, hazardous waste, socioeconomics and safety.

b. The Corps intends to hold a public scoping meeting(s) for the EIS/EIR to aid in the determination of significant environmental issues associated with the proposed project. Affected federal, state and local resource agencies, Native American groups and concerned interest groups/individuals are encouraged to participate in the scoping process. Public participation is critical in defining the scope of analysis in the Draft EIS/EIR, identifying significant environmental issues in the Draft EIS/EIR, providing useful information such as published and unpublished data, and knowledge of relevant issues and recommending mitigation measures to offset potential impacts from proposed actions. The time and location of the public scoping meeting will be advertised in letters, public announcements and news releases.

c. Individuals and agencies may offer information or data relevant to the environmental or socioeconomic impacts of the proposed project by submitting comments, suggestions, and requests to be placed on the mailing list for announcements to (see ADDRESSES) or the following email address: kathleen.s.anderson@usace.army.mil.

d. The project will require concurrence by the California Coastal Commission with the federal Coastal Consistency Determination in accordance with the Coastal Zone Management Act, as well as certification under Section 401 of the Clean Water Act from the Regional Water Quality Control Board. Depending upon the recommended alternative, the project may also require additional real property rights for construction and operation of a facility, and compliance with the Endangered Species Act.

6. Scoping Meeting Date, Time, and Location. The Public Scoping Meeting will take place on March 15, 2012, 7 p.m. to 9 p.m., Veterans Hall, 1000 Main Street, Cambria, CA 93428.

7. Availability of the Draft EIS/EIR. The Draft EIS/EIR is scheduled to be published and circulated in September 2012. Pursuant to CEQA, a public hearing on the EIS/EIR will be held by the CCSD following its publication.

Dated: February 15, 2012.
R. Mark Toy,
Colonel, U.S. Army, Commander and District Engineer, Los Angeles District.

[FR Doc. 2012-4313 Filed 2-23-12; 8:45 am]

BILLING CODE 3720-58-P